DEPARTMENT OF ENERGY

Federal Energy Regulatory Commission

[Docket No. RP98-52-037]

Williams Gas Pipelines Central, Inc.; Notice of Filing of Refund Report

June 1, 2000.

Take notice that on May 26, 2000, Williams Gas Pipelines Central, Inc. (Williams), tendered for filing its report of activities regarding collection of Kansas ad valorem taxes.

Williams states that this filing is being made in compliance with Commission order issued September 10, 1997 in Docket Nos. RP97-397-000, et al. The September 10 order requires first sellers to make refunds for the period October 3, 1983 through June 28, 1988. The Commission also directed that pipelines file a report annually concerning their activities to collect and flow through refunds of the taxes at issue.

Williams states that a copy of its filing was served on all parties included on the official service list maintained by the Secretary in this proceeding.

Any person desiring to protest said filing should file a protest with the Federal Energy Regulatory Commission, 888 First Street, NE., Washington, DC 20426, in accordance with Section 385.211 of the Commission's Rules and Regulations. All such protests must be filed in on or before June 8, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-14230 Filed 6-6-00; 8:45 am]

BILLING CODE 6717-01-M